DEPARTMENT OF ENERGY

Federal Energy Regulatory Commission

[Project No. 2574-092]

Merimil Limited Partnership; Notice Of Reasonable Period of Time for Water Quality Certification Application

On May 13, 2025, Merimil Limited Partnership submitted to the Federal Energy Regulatory Commission (Commission) documentation from the Maine Department of Environmental Protection (Maine DEP) that it received a request for a Clean Water Act section 401(a)(1) water quality certification as defined in 40 CFR 121.5, from Merimil Limited Partnership, in conjunction with the above captioned project on May 8, 2025. Pursuant to the Commission's regulations,¹ we hereby notify Maine DEP of the following.

¹ 18 CFR 4.201(e).

Date of Receipt of the Certification Request: May 8, 2025.

Reasonable Period of Time to Act on the Certification Request: One year, May 8, 2026.

If Maine DEP fails or refuses to act on the water quality certification request on or before the above date, then the certifying authority is deemed waived pursuant to section 401(a)(1) of the Clean Water Act, 33 U.S.C. 1341(a)(1).

Dated: May 21, 2025.
Debbie-Anne A. Reese,
Secretary.

[FR Doc. 2025-09600 Filed 5-28-25; 8:45 am]

BILLING CODE 6717-01-P